DEPARTMENT OF THE INTERIOR

National Park Service

[NPS-IMR-BITH-13318; PPIMBITHR0-PPMRSNR1Z.Y00000]

Plan of Operations and Related Categorical Exclusion for Plugging and Reclamation of Two Natural Gas Wells, Big Thicket National Preserve, Texas

AGENCY: National Park Service, Interior.

ACTION: Notice and request for comments.

SUMMARY: The National Park Service has received from Unit Petroleum Company a plan of operations to plug, abandon, and reclaim two natural gas wells in Big Thicket National Preserve in Polk County, Texas. We are requesting comments on the plan of operations and on the related categorical exclusion from provisions of the National Environmental Protection Act for this proposal.

DATES: Submit comments by May 13, 2015.

ADDRESSES: The plan of operations and the related categorical exclusion are available for public review and comment at http://parkplanning.nps.gov/bith and in the Office of the Superintendent, Edward Comeau—Acting, Big Thicket National Preserve, 6044 FM 420, Kountze, Texas 77625. Copies of the documents are available upon request from the contact listed below.

FOR FURTHER INFORMATION CONTACT: Mr. Ryan Desliu, Oil and Gas Program Manager, Big Thicket National Preserve, 6044 FM 420, Kountze, Texas 77625, Telephone: (409) 951-6822; or email at Ryan_Desliu@nps.gov.

SUPPLEMENTARY INFORMATION: Unit Petroleum Company proposes to plug, abandon, and reclaim the Blackstone #1 and #2 wells currently in shut in status within the Big Sandy Creek Corridor Unit of Big Thicket National Preserve. The wells were drilled before we acquired the land and must be plugged and abandoned to meet Texas Railroad Commission and NPS regulations. The proposed operation will only create minor impacts to resources in the Preserve.

An operator requiring access on, across, or through National Park Service lands or waters may conduct activities only under an approved plan of operations. We must complete an environmental analysis and make a decision on the plan of operations within 60 days of finding the plan to be complete. We must also publish a notice in the Federal Register informing the public that the plan is available for public review and comment.

Public scoping for this proposal was conducted from May 18-June 18, 2012. The scoping brochure was also posted on the NPS's Planning Environment and Public Comment Web site.

If you wish to comment on the plan of operations and categorical exclusion, you may mail comments to the name and address above or post comments online at http://parkplanning.nps.gov/bith. The documents will be on public review for 30 days. Please note that the comments submitted in response to this notice are a matter of public record. Before including your address, phone number, email address, or other personal identifying information in your comment, you should be aware that your entire comment, including your personal identifying information, may be made publicly available at any time. While you can ask us in your comment to withhold your personal identifying information from public review, we cannot guarantee that we will be able to do so.

Dated: January 14, 2014.
Edward Comeau,
Acting Superintendent, Big Thicket National Preserve, National Park Service.

[FR Doc. 2015-08375 Filed 4-10-15; 8:45 am]

BILLING CODE 4312-CB-P